DEPARTMENT OF TRANSPORTATION

Federal Aviation Administration

14 CFR Part 39

[Docket No. FAA-2016-5462; Directorate Identifier 2015-NM-131-AD; Amendment 39-18606; AD 2016-16-08]

RIN 2120-AA64

Airworthiness Directives; Airbus Airplanes

AGENCY: Federal Aviation Administration (FAA), Department of Transportation (DOT).

ACTION: Final rule.

SUMMARY: We are adopting a new airworthiness directive (AD) for certain Airbus Model A330-200, -200 Freighter and -300 series airplanes; and Model A340-200 and -300 series airplanes. This AD was prompted by reports of spurious terrain awareness warning system (TAWS) alerts during approach and takeoff for airplanes fitted with the terrain and traffic collision avoidance system with transponder (T3CAS) when the T3CAS is constantly powered “ON” for more than 149 hours. This AD requires repetitive on-ground power cycle of the T3CAS. We are issuing this AD to prevent spurious TAWS alerts (collision prediction and alerting (CPA)), or missing legitimate CPA, which could increase flight crew workload during critical landing or takeoff phases, and could possibly result in reduced control of the airplane.

DATES: This AD is effective September 14, 2016.

The Director of the Federal Register approved the incorporation by reference of a certain publication listed in this AD as of September 14, 2016.

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-5462.

Examining the AD Docket

You may examine the AD docket on the Internet at http://www.regulations.gov by searching for and locating Docket No. FAA-2016-5462; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200, -200 Freighter and -300 series airplanes; and Model A340-200 and -300 series airplanes. The NPRM published in the Federal Register on April 12, 2016 (81 FR 21484) (“the NPRM”).

The European Aviation Safety Agency (EASA), which is the Technical Agent for the Member States of the European Union, has issued EASA AD 2015-0125, dated July 1, 2015; corrected July 3, 2015 (referred to after this as the Mandatory Continuing Airworthiness Information, or “the MCAI”), to correct an unsafe condition for certain Airbus Model A330-200, -200 Freighter and -300 series airplanes; and Model A340-200 and -300 series airplanes. The MCAI states:

Cases were reported of spurious Terrain Awareness Warning System (TAWS) alerts during approach and take off, with aeroplane fitted with the Terrain and Traffic Collision Avoidance System with Transponder (T3CAS). Investigations on the unit were launched with the manufacturer of the system (ACSS). The results of the laboratory investigation confirmed that an internal frozen Global Positioning System position anomaly occurs when the T3CAS is constantly powered `ON' for more than 149 hours. The origin for this defect was identified as a counter limitation related to a T3CAS internal software misbehaviour, not self-detected.

This condition, if not corrected, could lead to spurious TAWS alerts (Collision Prediction and Alerting (CPA), or missing legitimate CPA), which could increase flight crew workload during critical landing or take off phases, possibly resulting in reduced control of the aeroplane.

Prompted by these reports, Airbus issued Alert Operators Transmission (AOT) A34L003-13 to provide instructions to accomplish an on ground repetitive power cycle of the T3CAS before exceeding 120 hours of continuous power, and EASA issued AD 2014-0242 to require repetitive on ground power cycles of the T3CAS unit.

Since that [EASA] AD was issued, the AOT A34L003-13 revision 1 has been issued which extend[s] the applicability to A340 aeroplanes modified in-service in accordance with Airbus SB 34-4282 (T3CAS std 1.2 unit installation). It was also identified that [EASA] AD 2014-0242 does not refer to affected A330 in-service aeroplanes on which SB A330-34-3271 or SB A330-34-3286 or SB A330-34-3301 have been embodied.

For the reason described above, this [EASA] AD retains the same required actions as EASA AD 2014-0242, which is superseded, expands the Applicability of the [EASA] AD to include post SB A330-34-3271, post SB A330-34-3286 and post SB A330-34-3301 A330 aeroplanes, and post SB A340-34-4282 A340 aeroplanes.

* * * * *

You may examine the MCAI in the AD docket on the Internet at http://www.regulations.gov by searching for and locating Docket No. FAA-2016-5462.

Comments

We gave the public the opportunity to participate in developing this AD. We considered the comments received. The commenters, Air Line Pilots Association International and Mr. Scott Corner, supported the NPRM.

Conclusion

We reviewed the relevant data, considered the comments received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

Airbus has issued Alert Operators Transmission (AOT) A34L003-13, Revision 01, dated May 26, 2015. The service information describes procedures for an on-ground power cycle of the T3CAS. This service information is reasonably available because the interested parties have access to it through their normal course of business or by the means identified in the ADDRESSES section.

Costs of Compliance

We estimate that this AD affects 3 airplanes of U.S. registry.

We also estimate that it will take about 1 work-hour per product to comply with the basic requirements of this AD. The average labor rate is $85 per work-hour. Required parts will cost about $0 per product. Based on these figures, we estimate the cost of this AD on U.S. operators to be $255, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-16-08 Airbus: Amendment 39-18606; Docket No. FAA-2016-5462; Directorate Identifier 2015-NM-131-AD.

(a) Effective Date

This AD is effective September 14, 2016.

(b) Affected ADs

None.

(c) Applicability

This AD applies to the following Airbus airplanes, certificated in any category.

(1) Airbus Model A330-201, -202, -203, -223, -243, -223F, -243F, -301, -302, -303, -321, -322, -323, -341, -342, and -343 airplanes, all manufacturer serial numbers on which Airbus Modification 202097 (T3CAS Standard 1.1) or Modification 202849 (T3CAS Standard 1.2) has been embodied in production; or Airbus Service Bulletin A330-34-3271; Airbus Service Bulletin A330-34-3286; or Airbus Service Bulletin A330-34-3301 have been embodied in-service.

(2) Airbus Model A340-211, -212, -213, -311, -312, and -313 airplanes, all manufacturer serial numbers on which Airbus Service Bulletin A340-34-4282 (T3CAS Standard 1.2) has been embodied in-service.

(d) Subject

Air Transport Association (ATA) of America Code 34, Navigation.

(e) Reason

This AD was prompted by reports of spurious terrain awareness warning system (TAWS) alerts during approach and takeoff for airplanes fitted with the terrain and traffic collision avoidance system with transponder (T3CAS) when the T3CAS is constantly powered “ON” for more than 149 hours. We are issuing this AD to prevent spurious TAWS alerts (collision prediction and alerting (CPA)), or missing legitimate CPA, which could increase flight crew workload during critical landing or takeoff phases, and could possibly result in reduced control of the airplane.

(f) Compliance

Comply with this AD within the compliance times specified, unless already done.

(g) On-Ground Power Cycle

For Model A330 and A340 airplanes equipped with a T3CAS unit having a part number specified in paragraph (g)(1) or (g)(2) of this AD: Within 30 days after the effective date of this AD, or within 120 hours of continuous power of the T3CAS after installation of the T3CAS, as specified in any applicable service information in paragraph (h) of this AD, whichever occurs later, do an on-ground power cycle of the T3CAS, in accordance with the instructions of Airbus Alert Operators Transmission (AOT) A34L003-13, Revision 01, dated May 26, 2015. Thereafter, repeat the on-ground power cycle of the T3CAS at intervals not to exceed 120 hours of continuous power of the T3CAS.

(1) Affected T3CAS Units are those having part number (P/N) 9005000-10101, Software Standard 1.1.

(2) Affected T3CAS Units are those having P/N 9005000-10202, Software Standard 1.2.

(h) Service Information Used To Install Part Affected

Paragraphs (h)(1) through (h)(4) of this AD identify the service information that was used to install the T3CAS, as specified in paragraph (g) of this AD.

(1) Airbus Service Bulletin A330-34-3271.

(2) Airbus Service Bulletin A330-34-3286.

(3) Airbus Service Bulletin A330-34-3301.

(4) Airbus Service Bulletin A340-34-4282.

(i) Parts Installation Limitations

As of the effective date of this AD, installation on an airplane of a T3CAS unit having a part number specified in paragraph (g) of this AD is acceptable, provided that, following installation, the T3CAS unit is power cycled on a recurrent basis, as required by paragraph (g) of this AD.

(j) Credit for Previous Actions

This paragraph provides credit for actions required by paragraph (g) of this AD, if those actions were performed before the effective date of this AD using Airbus AOT A34L003-13, dated November 25, 2013.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

(1) Refer to Mandatory Continuing Airworthiness Information (MCAI)) EASA Airworthiness Directive 2015-0125, dated July 1, 2015; corrected July 3, 2015, for related information. This MCAI may be found in the AD docket on the Internet at http://www.regulations.gov by searching for and locating Docket No. FAA-2016-5462.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A34L003-13, Revision 01, dated May 26, 2015.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 25, 2016.
Victor Wicklund,
Acting Manager, Transport Airplane Directorate, Aircraft Certification Service.

[FR Doc. 2016-18493 Filed 8-9-16; 8:45 am]

BILLING CODE 4910-13-P